DEPARTMENT OF TRANSPORTATION

Coast Guard

33 CFR Part 117

[CGD01-01-056]

Drawbridge Operation Regulations: Long Island, New York Inland Waterway from East Rockaway Inlet to Shinnecock Canal, NY.

AGENCY: Coast Guard, DOT.

ACTION: Notice of temporary deviation from regulations.

SUMMARY: The Commander, First Coast Guard District, has issued a temporary deviation from the drawbridge regulations which govern the operation of the Atlantic Beach Bridge, at mile 0.4, across the Reynolds Channel in New York. This deviation from the regulations allows the bridge owner to need not open the bridge for the passage of vessel traffic from 8 a.m., on May 15, 2001 through 8 a.m., on May 17, 2001. This action is necessary to facilitate necessary maintenance at the bridge. Vessels that can pass under the bridge without an opening may do so at all times.

DATES: This deviation is effective from May 15, 2001 through May 17, 2001.

FOR FURTHER INFORMATION CONTACT: Joe Schmied, Project Officer, First Coast Guard District, at (212) 668-7165.

SUPPLEMENTARY INFORMATION: The Atlantic Beach Bridge, mile 0.4, across the Reynolds Channel has a vertical clearance of 25 feet at mean high water, and 30 feet at mean low water in the closed position. The existing operating regulations are listed at 33 CFR 117.799(e).

The bridge owner, the Nassau County Bridge Authority, requested a temporary deviation from the operating regulations to facilitate replacement of the power operating controls at the bridge.

This deviation to the operating regulations will allow the owner of the Atlantic Beach Bridge to need not open the bridge for the passage of vessel traffic from 8 a.m., on May 15, 2001 through 8 a.m., on May 17, 2001. Vessels that can pass under the bridge without an opening may do so at all times.

In accordance with 33 CFR 117.35(c), this work will be performed with all due speed in order to return the bridge to normal operation as soon as possible. This deviation from the operating regulations is authorized under 33 CFR 117.35.

Dated: April 19, 2001.
G.N. Naccara,
Rear Admiral, U.S. Coast Guard, Commander, First Coast Guard District.

[FR Doc. 01-10969 Filed 5-1-01; 8:45 am]

BILLING CODE 4910-15-U